DEPARTMENT OF AGRICULTURE

Forest Service

Notice of Resource Advisory Committee Meeting

AGENCY: Ravalli County Resource Advisory Committee, Hamilton, MT. Forest Service, USDA.

ACTION: Notice of meeting.

SUMMARY: Pursuant to the authorities in the Federal Advisory Committee Act (Public Law 92-463) and under the Secure Rural Schools and Community Self-Determination Act of 2000 (Public Law 106-393) the Bitterroot National Forest's Ravalli County Resource Advisory Committee will meet Tuesday, January 22, 2001 in Hamilton Montana for a business meeting. The meeting is open to the public.

SUPPLEMENTARY INFORMATION: The business meeting in January 22 begins at 6:30 p.m., at the Holiday Inn, 138 Bitterroot Plaza Drive, Hamilton, Montana. Agenda topics will include FACA overview, Charter overview, Process of project identification/recommendation, election of Chairperson, operating guidelines, and establishment of future meeting schedule.

FOR FURTHER INFORMATION CONTACT: Jeanne Higgins, Stevensville District Ranger and Designated Federal Officer, Phone: (406) 777-5461.

Dated: December 19, 2001.
Rodd Richardson,
Forest Supervisor.

[FR Doc. 01-31908 Filed 12-27-01; 8:45 am]

BILLING CODE 3410-11-M